DEPARTMENT OF DEFENSE

Department of the Army

Fort Bliss (Texas) Army Growth and Force Structure Realignment Final Environmental Impact Statement (FEIS)

AGENCY: Department of the Army, DOD.

ACTION: Notice of availability.

SUMMARY: The Department of the Army announces the availability of the Fort Bliss Army Growth and Force Structure Realignment FEIS (hereon referred to as FEIS) identifying the potential environmental effects that would result from use of stationing and training capacity, land use changes, and training infrastructure improvements at Fort Bliss to support Army growth and force structure realignment.

The FEIS tiers from the Records of Decision (2007) for the Army Growth and Force Structure Realignment Programmatic Environmental Impact Statement (GTA PEIS); and the Fort Bliss, Texas and New Mexico Mission and Master Plan Final Supplemental Programmatic Environmental Impact Statement (SEIS).

After reviewing the alternatives presented in the FEIS, the Army has selected its preferred alternative from a mixture of the three different categories of interrelated alternatives. The preferred alternative is to implement the following: Alternative 4 stationing action; Alternative 5 land use change; and Alternative 4 training infrastructure improvement. Alternative 4 stationing action includes a Stryker Brigade Combat Team (SBCT) (for a total of two) or allows replacing a BCT equivalent with an SBCT and various support units to the Fort Bliss stationing package. Alternative 5 land use changes allow fixed sites (e.g., military bivouac), mission support facilities, live-fire military uses and off-road vehicle maneuvers in new locations around the Sacramento Mountains and McGregor Range areas. Alternative 4 training infrastructure improvements include: construction of new ranges to support the stationing of SBCTs; expansion of existing range camps; construction of 16 austere Contingency Operating Locations (COLs); and construction of a rail line connecting the Fort Bliss Cantonment area to the Fort Bliss Training Complex.

DATES: The waiting period will end 30 days after the publication of a notice of availability for the FEIS in the Federal Register by the U.S. Environmental Protection Agency.

ADDRESSES: Written comments should be sent to: Mr. John F. Barrera, IMWE-BLS-PWE, Building 624, Taylor Road, Fort Bliss, TX 79916-6812; e-mail: bliss.eis@conus.army.mil.

FOR FURTHER INFORMATION CONTACT: Ms. Jean Offutt, Public Affairs Officer, IMWE-BLS-PA, Fort Bliss, TX 79916-6812; telephone: (915) 568-4505; fax: (915) 568-2995; e-mail: jean.offutt@us.army.mil.

SUPPLEMENTARY INFORMATION: The Proposed Action would support the growth of the Army and allow for reasonably foreseeable future stationing actions, land use changes, and training infrastructure improvements that take advantage of Fort Bliss's varied terrain; full suite of training ranges; collocation with heavy, light, and aviation combat units; and collocation with various support units.

Three categories of interrelated alternatives are analyzed in this document: stationing/training; land use changes; and training infrastructure improvements. Each category contains a No Action alternative and several action alternatives.

(1) The stationing/training category of alternatives analyzes the stationing decision made in the GTA PEIS. The document also analyzes reasonably foreseeable future growth at Fort Bliss, including adding one or more SBCTs and additional support units.

(2) Land uses analyzed in the FEIS are primarily focused in the rugged terrain of northeast McGregor Range, with minor changes in the southeast and Tularosa Basin portions of McGregor Range, for the purpose of supporting realistic and effective light infantry training. None of the proposed land use changes include the Culp Canyon Wilderness Study Area or the Black Grama Grassland Area of Critical Environmental Concern.

(3) Training infrastructure improvements analyzed in the FEIS include construction of additional firing ranges and expansion or construction of administrative and training support facilities to support the units stationed at Fort Bliss.

Actions analyzed in this document would result in a range of potential impacts. Erosion would increase substantially on range roads interior to the Fort Bliss Training Complex, requiring more frequent maintenance. The most expansive stationing alternative selected may, as a result of high-tempo training schedules, reduce Native American access to areas of the installation in which they have an ongoing interest. The proposed action would, in certain alternatives, result in a small increase in the economic benefit provided by growth of the installation, and a small decrease in certain quality of life indicators (e.g., traffic, access to government services). Use of restricted airspace for military training would increase under certain alternatives, further limiting access of general and commercial aviation. Training related noise remains significant in areas adjacent to Dona Ana Range and portions of McGregor Range.

The FEIS and other environmental documents are available on the Fort Bliss Web site at https://www.bliss.army.mil or in the following libraries: In El Paso (TX), the Richard Burges Regional Library, 9600 Dyer; the Irving Schwartz Branch Library, 1865 Dean Martin; the Clardy Fox Branch Library, 5515 Robert Alva; and the Doris van Doren Regional Branch Library, 551 Redd Road. In Las Cruces (NM), the New Mexico State University Zuhl Library, 2999 McFie Circle. In Alamogordo (NM), the Alamogordo Public Library, 920 Oregon Avenue.

Dated: April 29, 2010.
Addison D. Davis, IV,
Deputy Assistant Secretary of the Army (Environment, Safety, and Occupational Health).

[FR Doc. 2010-10697 Filed 5-5-10; 8:45 am]

BILLING CODE 3710-08-P